DEPARTMENT OF TRANSPORTATION

Federal Aviation Administration

14 CFR Part 39

[Docket No. FAA-2021-0882; Project Identifier MCAI-2021-00929-Q; Amendment 39-21780; AD 2021-22-07]

RIN 2120-AA64

Airworthiness Directives; Umlaut Engineering GmbH (Previously P3 Engineering GmbH) HAFEX (Halon-Free) Hand-Held Fire Extinguishers

AGENCY: Federal Aviation Administration (FAA), DOT.

ACTION: Final rule; request for comments.

SUMMARY: The FAA is adopting a new airworthiness directive (AD) for certain Umlaut Engineering GmbH (previously P3 Engineering GmbH) HAFEX (Halon-free) hand-held fire extinguishers (fire extinguishers).This AD was prompted by a report of a safety issue on certain fire extinguishers, where certain environmental factors may prohibit the discharge of the fire extinguisher. This AD requires repetitively inspecting the fire extinguisher, and depending on the results, removing the fire extinguisher from service. This AD also prohibits installing an affected fire extinguisher unless it passes the required inspections. The FAA is issuing this AD to address the unsafe condition on these products.

DATES: This AD becomes effective November 18, 2021.

The Director of the Federal Register approved the incorporation by reference of a certain document listed in this AD as of November 18, 2021.

The FAA must receive comments on this AD by December 20, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Umlaut Engineering GmbH, Blohmstrasse 12, 21079 Hamburg, Germany; telephone: +49 (0) 551-19240; email: hafex@umlaut.com; or web: https://www.umlaut.com/hafex. You may view this service information at the FAA, Office of the Regional Counsel, Southwest Region, 10101 Hillwood Pkwy., Room 6N-321, Fort Worth, TX 76177. For information on the availability of this material at the FAA, call (817) 222-5110. Service information that is incorporated by reference is also available at https://www.regulations.gov by searching for and locating Docket No. FAA-2021-0882.

Examining the AD Docket

You may examine the AD docket at https://www.regulations.gov by searching for and locating Docket No. FAA-2021-0882; or in person at Docket Operations between 9 a.m. and 5 p.m., Monday through Friday, except Federal holidays. The AD docket contains this final rule, European Union Aviation Safety Agency (EASA) AD, any comments received, and other information. The street address for Docket Operations is listed above.

FOR FURTHER INFORMATION CONTACT: Hal Jensen, Aerospace Engineer, Operational Safety Branch, Compliance & Airworthiness Division, FAA, 950 L'Enfant Plaza N SW, Washington, DC 20024; telephone (202) 267-9167; email hal.jensen@faa.gov.

SUPPLEMENTARY INFORMATION:

Background

EASA, which is the Technical Agent for the Member States of the European Union, has issued a series of ADs, the most recent being EASA AD 2021-0185R1, dated August 11, 2021 (EASA AD 2021-0185R1), to correct an unsafe condition for Umlaut Engineering GmbH, formerly P3 Engineering GmbH, fire extinguishers, having part number (P/N) P3APP003010A, P/N P3APP003010B, or P/N P3APP003010C. EASA advises of a safety issue that has been reported on the affected fire extinguishers where certain environmental conditions may prohibit discharge of the fire extinguisher. An investigation has determined that prolonged exposure to high temperature conditions can dislodge the spindle in the fire extinguisher head, subsequently making the fire extinguisher inoperative. This condition, if not addressed, could prevent proper extinguishing of a fire in the cabin or cockpit, possibly resulting in damage to the aircraft and injury to the occupants.

Initially, EASA issued EASA AD 2021-0185, dated August 5, 2021 (EASA AD 2021-0185), which required repetitive inspections of each affected fire extinguisher, and, depending on findings, replacement with a serviceable part, as identified in EASA AD 2021-0185. EASA AD 2021-0185 also required inspection of an affected fire extinguisher prior to the return to service of an aircraft with an affected part installed if the aircraft had been parked or stored for a period of 30 days or more. EASA AD 2021-0185 also required inspection of an affected fire extinguisher prior to installation on any aircraft.

EASA later issued EASA AD 2021-0185R1 to revise EASA AD 2021-0185. EASA AD 2021-0185R1 contains the same requirements, clarifies some nomenclature, removes the Group definitions and references, and adds Note 3 to clarify the parts prohibition.

FAA's Determination

These products have been approved by EASA and are approved for operation in the United States. Pursuant to the FAA's bilateral agreement with the European Union, EASA has notified the FAA about the unsafe condition described in its AD. The FAA is proposing this AD after evaluating all known relevant information and determining that the unsafe condition described previously is likely to exist or develop on other products.

Related Service Information Under 1 CFR Part 51

The FAA reviewed Umlaut Vendor Service Bulletin (VSB) Doc. No. P3VSB000003, Issue C, dated August 3, 2021 (VSB P3VSB000003, Issue C). This service information specifies procedures for identifying affected fire extinguishers with P/N P3APP003010A, P3APP003010B, or P3APP003010C. VSB P3VSB000003, Issue C, also specifies procedures for inspecting and depending on the results, replacing affected fire extinguishers.

This service information is reasonably available because the interested parties have access to it through their normal course of business or by the means identified in the ADDRESSES section.

Other Related Service Information

The FAA also reviewed Umlaut VSB Doc. No. P3VSB000003, Issue A, dated May 10, 2021 (VSB P3VSB000003, Issue A), and Issue B, dated July 14, 2021 (VSB P3VSB000003, Issue B). VSB P3VSB000003, Issue A, and VSB P3VSB000003, Issue B, specify the same procedures as VSB P3VSB000003, Issue C, except VSB P3VSB000003, Issue B updated the introductory information of the Accomplishment Instructions, revised the determination/evaluation of the aircraft/equipment history procedures, and clarified reporting procedures; and VSB P3VSB000003, Issue C, adds more in-depth inspection procedures.

AD Requirements

This AD requires within 30 days after the effective date of this AD, and thereafter at intervals not to exceed 6 months, repetitively inspecting an affected fire extinguisher and depending on the results, removing the fire extinguisher from service. For an affected fire extinguisher that is installed on any aircraft that has not been in operation for 30 or more consecutive days, or if it cannot be determined how long an aircraft has not been in operation, this AD requires those actions before further flight and thereafter at intervals not to exceed 6 months. This AD also prohibits installing, as a replacement part or as an original installation, an affected fire extinguisher on any aircraft unless it passes the required inspections.

Differences Between This AD and the EASA AD

If it cannot be determined how long an aircraft (with an affected fire extinguisher installed) has not been in operation, this AD requires inspecting each affected fire extinguisher before further flight, whereas EASA AD 2021-0185R1 does not.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the initial inspection of the fire extinguisher must be accomplished within 30 days after the effective date of this AD. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2021-0882; Project Identifier MCAI-2021-00929-Q” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hal Jensen, Aerospace Engineer, Operational Safety Branch, Compliance & Airworthiness Division, FAA, 950 L'Enfant Plaza N SW, Washington, DC 20024; telephone (202) 267-9167; email hal.jensen@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects up to 2,850 fire extinguishers installed on aircraft of U.S. registry. Labor rates are estimated at $85 per work-hour. Based on these numbers, the FAA estimates the following costs to comply with this AD.

Inspecting an affected fire extinguisher would take about 0.25 work-hour for an estimated cost of $21 per fire extinguisher, and up to $59,850 for the U.S. fleet, per inspection cycle. Replacing an affected fire extinguisher would take about 0.25 work-hour and parts would cost about $1,200 for an estimated cost of $1,221 per fire extinguisher.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-07 Umlaut Engineering GmbH (previously P3 Engineering GmbH) HAFEX (Halon-free) Hand-Held Fire Extinguishers: Amendment 39-21780; Docket No. FAA-2021-0882; Project Identifier MCAI-2021-00929-Q.

(a) Effective Date

This airworthiness directive (AD) is effective November 18, 2021.

(b) Affected ADs

None.

(c) Applicability

This AD applies to Umlaut Engineering GmbH (previously P3 Engineering GmbH) HAFEX (Halon-free) hand-held fire extinguisher (fire extinguisher) part numbers (P/Ns) P3APP003010A, P3APP003010B, and P3APP003010C. An affected fire extinguisher may be installed on, but not limited to, the following aircraft, certificated in any category:

Note 1 to the introductory text of paragraph (c): According to Umlaut service information, the fire extinguisher P/N is on the RFID label located on the lever of the fire extinguisher.

(1) Airbus SAS Model A318 series, A319 series, A320 series, A321 series, A330-200 series, A330-200 freighter series, A330-300 series, A330-800 series, A330-900 series, A340-200 series, A340-300 series, A340-500 series, A340-600 series, and A350-941, AS350-1041, A380-841, A380-842, and A380-861 airplanes;

(2) Airbus Helicopters Model AS332C, AS332C1, AS332L, AS332L1, AS332L2, AS-365N2, AS 365 N3, EC 155B, EC155B1, EC225LP, SA330J, SA-365C, SA-365C1, SA-365C2, SA-365N, SA-365N1, and SA-366G1 helicopters;

(3) Airbus Helicopters Deutschland GmbH (AHD) Model EC135P1, EC135P2, EC135P2+, EC135P3, EC135T1 EC135T2, EC135T2+, EC135T3, MBB-BK 117 A-1, MBB-BK 117 A-3, MBB-BK 117 A-4, MBB-BK 117 B-1, MBB-BK 117 B-2, MBB-BK 117 C-1, MBB-BK 117 C-2, MBB-BK 117 D-2, and MBB-BK 117 D-3 helicopters;

Note 2 to paragraph (c)(3): Helicopters with an EC135P3H designation are Model EC135P3 helicopters; and helicopters with an MBB-BK 117C-2e designation are Model MBB-BK 117C-2 helicopters.

(4) ATR—GIE Avions de Transport Régional Model ATR42-200, ATR42-300, ATR42-320, ATR42-500, ATR72-101, ATR72-102, ATR72-201, ATR72-202, ATR72-211, ATR72-212, and ATR72-212A airplanes;

(5) Leonardo S.p.a. Model AB139, AB412, AB412 EP, AW139, AW169, and AW189 helicopters; and

(6) PZL Swidnik S.A. Model PZL W-3A helicopters.

(d) Subject

Joint Aircraft Service Component (JASC) Code: 2622, Fire Bottle, Portable.

(e) Unsafe Condition

This AD defines the unsafe condition as an impaired fire extinguisher, which could prevent proper extinguishing of a fire in the cabin or cockpit, and result in subsequent damage to the aircraft and injury to the occupants.

(f) Compliance

Comply with this AD within the compliance times specified, unless already done.

(g) Required Actions

(1) Within 30 days after the effective date of this AD and thereafter at intervals not to exceed 6 months:

(i) Inspect each fire extinguisher identified in the introductory paragraph of paragraph (c) of this AD by following the Accomplishment Instructions, paragraph 3.2.C., steps 1. through 5. (but not steps 5.a. and b.), of Umlaut Vender Service Bulletin (VSB) Doc. No. P3VSB000003, Issue C, dated August 3, 2021 (P3VSB000003, Issue C).

(ii) If the safety pin does not touch the valve head (there is a gap), continue to inspect the fire extinguisher by following the Accomplishment Instructions, paragraph 3.2.C., steps 6. through 8. (but not steps 8.a. and b.), of P3VSB000003, Issue C.

(iii) If the lever moves back up into its previous position on its own (there is a gap), before further flight, remove the fire extinguisher from service.

(2) As of the effective date of this AD, for a fire extinguisher identified in the introductory text of paragraph (c) of this AD, installed on any aircraft that has not been in operation for 30 or more consecutive days, or if it cannot be determined how long an aircraft has not been in operation, before further flight, and thereafter at intervals not to exceed 6 months, accomplish the actions required by paragraphs (g)(1)(i) through (iii) of this AD. For purposes of this AD, an engine run-up does not count as aircraft operation.

(3) As of the effective date of this AD, do not install as a replacement part or as an original installation a fire extinguisher identified in the introductory text of paragraph (c) of this AD on any aircraft, unless the actions required by paragraphs (g)(1)(i) through (iii) of this AD have been accomplished.

(h) Credit for Previous Actions

This paragraph provides credit for the initial instance of the actions required by paragraph (g)(1) of this AD if those actions were accomplished before the effective date of this AD using Umlaut VSB Doc. No. P3VSB000003, Issue A, dated May 10, 2021, or Umlaut VSB Doc. No. P3VSB000003, Issue B, dated July 14, 2021.

(i) Special Flight Permits

A special flight permit may be permitted provided that there are no passengers onboard.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Hal Jensen, Aerospace Engineer, Operational Safety Branch, Compliance & Airworthiness Division, FAA, 950 L'Enfant Plaza N SW, Washington, DC 20024; telephone (202) 267-9167; email hal.jensen@faa.gov.

(2) Umlaut VSB Doc. No. P3VSB000003, Issue A, dated May 10, 2021, and Issue B, dated July 14, 2021, which are not incorporated by reference, contain additional information about the subject of this AD. This service information is available at the contact information specified in paragraphs (l)(3) and (4) of this AD.

(3) The subject of this AD is addressed in European Union Aviation Safety Agency (EASA) AD 2021-0185R1, dated August 11, 2021. You may view the EASA AD at https://www.regulations.gov in Docket No. FAA-2021-0882.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Umlaut Vendor Service Bulletin Doc. No. P3VSB000003, Issue C, dated August 3, 2021.

(ii) [Reserved]

(3) For Umlaut service information identified in this AD, contact Umlaut Engineering GmbH, Blohmstrasse 12, 21079 Hamburg, Germany; telephone: +49 (0) 551-19240; email: hafex@umlaut.com; or web: https://www.umlaut.com/hafex.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on October 15, 2021.
Lance T. Gant,
Director, Compliance & Airworthiness Division, Aircraft Certification Service.

[FR Doc. 2021-24008 Filed 10-29-21; 4:15 pm]

BILLING CODE 4910-13-P